DEPARTMENT OF THE INTERIOR

National Park Service

[NPS-WASO-NAGPRA-NPS0030623; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects, in consultation with the appropriate Federally-recognized Indian Tribes, and has determined that a cultural affiliation between the associated funerary objects and present-day Federally-recognized Indian Tribes can reasonably be traced. Lineal descendants or representatives of any Federally-recognized Indian Tribe not identified in this notice that wish to request transfer of control of the associated funerary objects should submit a written request to the TVA. If no additional requestors come forward, transfer of control of the associated funerary objects to the Federally-recognized Indian Tribes stated in this notice may proceed.

DATES: Lineal descendants or representatives of any Federally-recognized Indian Tribe not identified in this notice that wish to request transfer of control of the associated funerary objects should submit a written request with information in support of the request to the TVA at the address in this notice by September 21, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of Tennessee Valley Authority, Knoxville, TN. Transfer of control of the human remains with which these funerary objects are associated, as well as additional associated funerary objects, has already occurred. The associated funerary objects listed in this notice were discovered during a recent review of the TVA archeological collection housed at the Alabama Museum of Natural History. The associated funerary objects were removed from archeological sites in Jackson and Marshall Counties, AL.

This notice is published as part of the National Park Service's administrative responsibilities under NAGPRA, 25 U.S.C. 3003(d)(3). The determinations in this notice are the sole responsibility of the museum, institution, or Federal agency that has control of the Native American cultural items. The National Park Service is not responsible for the determinations in this notice.

Consultation

A detailed assessment of the funerary objects was made by TVA professional staff in consultation with representatives of the Absentee-Shawnee Tribe of Indians of Oklahoma; Alabama-Coushatta Tribe of Texas (previously listed as Alabama-Coushatta Tribes of Texas); Alabama-Quassarte Tribal Town; Cherokee Nation; Coushatta Tribe of Louisiana; Eastern Band of Cherokee Indians; Eastern Shawnee Tribe of Oklahoma; Mississippi Band of Choctaw Indians; Poarch Band of Creeks (previously listed as Poarch Band of Creek Indians of Alabama); The Chickasaw Nation; The Choctaw Nation of Oklahoma; The Muscogee (Creek) Nation; The Seminole Nation of Oklahoma; Thlopthlocco Tribal Town; and the United Keetoowah Band of Cherokee Indians in Oklahoma (hereafter referred to as “The Consulted Tribes”).

History and Description of the Associated Funerary Objects

The four sites listed in this notice—1JA27, 1JA102, 1MS55, and 1MS91—were excavated as part of TVA's Guntersville Reservoir project by the Alabama Museum of Natural History (AMNH) at the University of Alabama, using labor and funds provided by the Works Progress Administration. Details regarding these excavations and sites may be found in a report, “An Archaeological Survey of Guntersville Basin on the Tennessee River in Northern Alabama,” by William S. Webb and Charles G. Wilder.

Human remains and other associated funerary objects from 1JA27 were listed in a Notice of Inventory Completion published in the Federal Register on September 5, 2017 (82 FR 41985-41987). Human remains and other associated funerary objects from 1JA102 and 1MS91 were listed in a Notice of Inventory Completion published in the Federal Register on September 1, 2016 (81 FR 60381-60383). Human remains and other associated funerary objects from 1MS55 were listed in a Notice of Inventory Completion published in the Federal Register on April 29, 2019 (84 FR 18080-18081). Transfer of control of the cultural items listed in those notices to the Alabama-Coushatta Tribe of Texas; Alabama-Quassarte Tribal Town; Coushatta Tribe of Louisiana; and The Muscogee (Creek) Nation has already occurred. The associated funerary objects listed in this notice were discovered during a recent review of the TVA archeological collection housed at AMNH.

From March to April of 1938, a Furrs Cordmarked rim and a Bell Plain Effigy Bottle were removed from burial units 2 and 3, respectively, at the Hardin site (1JA27) in Jackson County, AL, after TVA acquired the site on October 16, 1936. Excavations revealed two primary occupations during the Late Woodland Flint River phase (A.D. 500-1000) and the Mississippian Henry Island phase (A.D. 1200-1450). The associated funerary objects listed in this notice were originally found with the human remains that were from the Henry Island phase.

From September 1938 to January 1939, one Bell Plain effigy bowl was removed from burial unit 10 at 1JA102, Sublet Ferry site, in Jackson County, AL. Excavations commenced after TVA acquired a permit for archeological exploration on June 11, 1938. Excavations revealed this site to be a shell midden overlying a dark midden soil. Both Woodland and Mississippian occupations were identified. The associated funerary object listed in this notice was from the Henry Island phase of the Mississippian period.

From September 1937 to May 1938, one Bell Plain jar was removed from burial unit 39 at the Henry Island site, 1MS55, in Marshall County, AL. TVA purchased the site on November 2, 1936. This site was composed of two earthen mounds and an associated village midden. Although there are no radiocarbon dates from this site, artifacts from the excavation suggest occupations during the Copena (A.D. 100-500), Flint River (A.D. 500-1000), Henry Island (A.D. 1200-1500), and Crow Creek (A.D. 1500-1650) phases. The associated funerary object listed in this notice was removed from a Henry Island phase burial.

From June 1938 to May 1939, one brass bell was removed from burial unit 25 (Unit I), and 17 glass beads, one carbonized textile sample and one carbonized basketry sample were removed from burial unit 5 (Unit II) at the Columbus City Landing site, 1MS91. This site is northeast of the city of Guntersville in Marshall County, AL. Excavation commenced after TVA purchased the land on March 8, 1937. There were excavations in both the village (Unit I) and adjacent mounds (Unit II). Artifacts recovered from this excavation revealed that the primary occupations were during the Middle Woodland (A.D. 100-500), Mississippian (A.D. 1200-1500), and historic periods. The associated funerary objects listed in this notice were removed from historic Native American burials.

A relationship of shared group identity can reasonably be traced between present-day Indian Tribes and the cultural items of the earlier culture identified as Mississippian. The preponderance of the evidence indicates that the cultural items from the Henry Island phase at 1JA27, 1JA102, and 1MS55 and the historic period at 1MS91 are culturally affiliated with Native Americans descendants of the Koasati/Kaskinampo. These descendants include the Alabama-Coushatta Tribe of Texas (previously listed as Alabama-Coushatta Tribes of Texas); Alabama-Quassarte Tribal Town; Coushatta Tribe of Louisiana; and The Muscogee (Creek) Nation.

Chronicles from Spanish explorers of the 16th century and French explorers of the 17th and 18th century indicate the presence of chiefdom level tribal entities in the southeastern United States which resemble the Mississippian chiefdoms. Linguistic analysis of place names noted by multiple Spanish explorers indicates that Koasati speaking groups inhabited northeastern Alabama. Early maps and research into the historic Native American occupation of northeastern Alabama indicates that the Koasati (as called by the English) or the Kaskinampo (as called by the French) were found at multiple sites in Jackson and Marshall Counties in the 17th and 18th centuries. Oral history, traditions, and expert opinions of the descendants of Koasati/Kaskinampo indicate that this portion of the Tennessee River valley was a homeland of their Tribe. The subsequent involuntary diaspora of these peoples resulted in descendants of the Koasati/Kaskinampo living among multiple Indian Tribes.

Determinations Made by the Tennessee Valley Authority

Officials of the Tennessee Valley Authority have determined that:

• Pursuant to 25 U.S.C. 3001(3)(A), the 24 associated funerary objects described in this notice are reasonably believed to have been placed with or near individual human remains at the time of death or later as part of the death rite or ceremony.

• Pursuant to 25 U.S.C. 3001(2), there is a relationship of shared group identity that can be reasonably traced between the associated funerary objects listed in this notice and the Alabama-Coushatta Tribe of Texas (previously listed as Alabama-Coushatta Tribes of Texas); Alabama-Quassarte Tribal Town; Coushatta Tribe of Louisiana; and The Muscogee (Creek) Nation (hereafter referred to as “The Tribes”).

Additional Requestors and Disposition

Lineal descendants or representatives of any Federally-recognized Indian Tribe not identified in this notice that wish to request transfer of control of the associated funerary objects should submit a written request with information in support of the request to Dr. Thomas O. Maher, Tennessee Valley Authority, 400 West Summit Hill Drive, WT11C, Knoxville, TN 37902-1401, telephone (865) 632-7458, email tomaher@tva.gov, by September 21, 2020. After that date, if no additional requestors have come forward, transfer of control of the associated funerary objects to The Tribes may proceed.

The Tennessee Valley Authority is responsible for notifying The Consulted Tribes that this notice has been published.

Dated: July 13, 2020.
Melanie O'Brien,
Manager, National NAGPRA Program.

[FR Doc. 2020-18232 Filed 8-19-20; 8:45 am]

BILLING CODE 4312-52-P